DEPARTMENT OF ENERGY

Federal Energy Regulatory Commission

Combined Notice of Filings #1

Take notice that the Commission received the following electric rate filings:

Docket Numbers: ER07-769-003.

Applicants: Cedar Rapids Transmission Company Limited.

Description: Cedars Rapids Transmission Company Limited submits update to Status of Regulatory Proceedings in Quebec.

Filed Date: 6/26/12.

Accession Number: 20120626-5155.

Comments Due: 5 p.m. ET 2/8/13.

Docket Numbers: ER07-769-004.

Applicants: Cedar Rapids Transmission Company Limited.

Description: Cedars Rapids Transmission Company Limited submits notification of change in status.

Filed Date: 1/14/13.

Accession Number: 20130114-5243.

Comments Due: 5 p.m. ET 2/4/13.

Docket Numbers: ER12-911-003.

Applicants: CPV Sentinel, LLC.

Description: Notice of Change in Facts of CPV Sentinel, LLC.

Filed Date: 1/17/13.

Accession Number: 20130117-5203.

Comments Due: 5 p.m. ET 2/7/13.

Docket Numbers: ER13-69-001.

Applicants: California Independent System Operator Corporation.

Description: California Independent System Operator Corporation submits tariff filing per 35.17(b): 2013-01-16 Response to December 10 2012 Letter in ER13-69 to be effective 3/18/2013.

Filed Date: 1/17/13.

Accession Number: 20130117-5009.

Comments Due: 5 p.m. ET 2/7/13.

Docket Numbers: ER13-227-001.

Applicants: Southern California Edison Company.

Description: Southern California Edison Company submits tariff filing per 35: RSBAA 2013 Compliance Filing to be effective 1/1/2013.

Filed Date: 1/17/13.

Accession Number: 20130117-5004.

Comments Due: 5 p.m. ET 2/7/13.

Docket Numbers: ER13-246-001.

Applicants: Southern California Edison Company.

Description: Southern California Edison Company submits tariff filing per 35: ETC 2013 Compliance Filing to be effective 1/1/2013.

Filed Date: 1/17/13.

Accession Number: 20130117-5003.

Comments Due: 5 p.m. ET 2/7/13.

Docket Numbers: ER13-573-001.

Applicants: CMS Energy Resource Management Company.

Description: CMS ERM Company—MBR to be effective 12/19/2012.

Filed Date: 1/17/13.

Accession Number: 20130117-5102.

Comments Due: 5 p.m. ET 2/7/13.

Docket Numbers: ER13-771-000.

Applicants: Southern California Edison Company.

Description: Southern California Edison Company submits tariff filing per 35.13(a)(2)(iii: SGIAs and Dist Serv Agmts LRE Agincourt, LLC and LRE Marathon, LLC to be effective 1/18/2013.

Filed Date: 1/17/13.

Accession Number: 20130117-5001.

Comments Due: 5 p.m. ET 2/7/13.

Docket Numbers: ER13-772-000.

Applicants: NorthWestern Corporation.

Description: SA 576—WKN Montana II LGIA—1st Revised—Amended to be effective 12/29/2012.

Filed Date: 1/17/13.

Accession Number: 20130117-5069.

Comments Due: 5 p.m. ET 2/7/13.

Docket Numbers: ER13-773-000.

Applicants: CCI Roseton LLC.

Description: CCI Roseton MBR Application to be effective 1/18/2013.

Filed Date: 1/17/13.

Accession Number: 20130117-5106.

Comments Due: 5 p.m. ET 2/7/13.

Docket Numbers: ER13-774-000.

Applicants: Southwest Power Pool, Inc.

Description: 2233R1 Osage Wind GRDA Facilities Construction Agreement to be effective 12/18/2012.

Filed Date: 1/17/13.

Accession Number: 20130117-5129.

Comments Due: 5 p.m. ET 2/7/13.

Docket Numbers: ER13-775-000.

Applicants: Southwest Power Pool, Inc.

Description: 607R18 Westar Energy, Inc. NITSA and NOA to be effective 1/1/2013.

Filed Date: 1/17/13.

Accession Number: 20130117-5130.

Comments Due: 5 p.m. ET 2/7/13.

Docket Numbers: ER13-776-000.

Applicants: Midwest Independent Transmission System Operator, Inc.

Description: 01-17-2013 Attachment FF-6 Errata Filing to be effective 6/1/2013.

Filed Date: 1/17/13.

Accession Number: 20130117-5147.

Comments Due: 5 p.m. ET 2/7/13.

Take notice that the Commission received the following electric securities filings:

Docket Numbers: ES13-14-000.

Applicants: International Transmission Company.

Description: Application of International Transmission Company pursuant to Section 204 of the Federal Power Act for authorization to issue debt securities.

Filed Date: 1/17/13.

Accession Number: 20130117-5196.

Comments Due: 5 p.m. ET 2/7/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 18, 2013.
Nathaniel J. Davis, Sr.,
Deputy Secretary.

[FR Doc. 2013-01754 Filed 1-28-13; 8:45 am]

BILLING CODE 6717-01-P